DEPARTMENT OF AGRICULTURE

[00-02-S]

Grain Inspection, Packers and Stockyards Administration; Designation for the Minnesota, Virginia, Frankfort (IN), and Indianapolis (IN) Areas

AGENCY: Grain Inspection, Packers and Stockyards Administration (GIPSA).

ACTION: Notice; correction.

SUMMARY: The Grain Inspection, Packers and Stockyards Administration published a document in the Federal Register of December 1, 2000, concerning Designation for the Minnesota, Virginia, Frankfort (IN), and Indianapolis (IN) Areas. The document contained an incorrect date.

FOR FURTHER INFORMATION CONTACT: Janet M. Hart at 202-720-8525, e-mail janhart@gipsadc.usda.gov.

Correction

In the Federal Register of December 1, 2000, in FR Doc. 00-304898, on page 75239, correct the first date in the “Designation end” column of the chart to read 09/30/2003.

Dated: December 4, 2000.
Neil E. Porter,
Director, Compliance Division.

[FR Doc. 00-32157 Filed 12-15-00; 8:45 am]

BILLING CODE 3410-EN-P